DELAWARE RIVER BASIN COMMISSION

Notice of Commission Meeting and Public Hearing

Notice is hereby given that the Delaware River Basin Commission will hold an informal conference followed by a public hearing on Wednesday, May 5, 2010. The hearing will be part of the Commission's regular business meeting. The conference session and business meeting both are open to the public and will be held at the Commission's office building, located at 25 State Police Drive, West Trenton, New Jersey.

The conference among the commissioners and staff will begin at 10:30 a.m. and will consist of a presentation on the Commonwealth's Total Dissolved Solids (TDS) Strategy by a representative of the Pennsylvania Department of Environmental Protection and a presentation on the Delaware River Valley Early Warning System by a representative of the Philadelphia Water Department.

The subjects of the public hearing to be held during the 1:30 p.m. business meeting include the dockets listed below:

1. Cabot Corporation, D-1970-072-4. An application for the renewal of an existing 0.222 million gallons per day (mgd) discharge from Outfalls Nos. 001 (process wastewater and non-contact cooling water (NCCW)), 002 (stormwater, condensate and NCCW), and 003 (process water treatment system wastewater). The project is located on Swamp Creek at River Mile 92.47—32.3—12.9—12.6 (Delaware River—Schuylkill River—Perkiomen Creek—Swamp Creek), on the border of Douglass Township, Montgomery County, Pennsylvania and Colebrookdale Township, Berks County, Pennsylvania.

2. Gilbertsville Golf Club, D-1999-047-2. The purpose of this project is to continue to provide up to 12 million gallons per 30 days (mg/30 days) of water for golf course irrigation from existing Wells Nos. 2, 9, and 13, which were installed in the Brunswick Formation. The docket holder augments two ponds from the existing groundwater wells to satisfy the irrigation water demand for the docket holder's golf course. The project is located in the Minster Creek Watershed in the New Hanover Township, Montgomery County, PA and is located in the Southeastern Pennsylvania Ground Water Protected Area (GWPA).

3. Womelsdorf Sewer Authority, D-1967-084 CP-2. An application to approve an expansion of the existing Womelsdorf Sewer Authority Wastewater Treatment Plant (WWTP). The WWTP was expanded in 2000 from 0.3 million mgd to 0.475 mgd; however this expansion was never approved by the Commission. The WWTP will continue to discharge to the Tulpehocken Creek, a tributary to the Schuylkill River. The facility is located in Heidelberg Township, Berks County, Pennsylvania.

4. Morysville, D-1973-060 CP-2. An application for approval to increase the Morysville WWTP discharge from 0.25 mgd to 0.32 mgd. The hydraulic design capacity of 0.38 mgd will not be modified. The project will continue to discharge to Ironstone Creek at River Mile 92.47—54.15—4.0—4.1 (Delaware River—Schuylkill River—Manatawny Creek—Ironstone Creek), in Colebrookdale Township, Berks County, Pennsylvania.

5. North Wales Water Authority, D-1986-020 CP-2. An application for approval of a modification of the North Wales Water Authority WWTP. The applicant proposes to upgrade the existing 0.835 mgd WWTP to include the addition of an activated sludge unit and a chemical feed system. The project includes the transfer of ownership from North Wales Borough to the North Wales Water Authority. The WWTP's hydraulic design rate of 0.835 mgd will remain unchanged. The WWTP will continue to discharge to an unnamed tributary of the Wissahickon Creek, which is a tributary of the Schuylkill River. The facility is located in Upper Gwynedd Township, Montgomery County, Pennsylvania.

6. Township of Spring, D-1988-077 CP-2. An application for approval of the expansion of the Spring Township WWTP. A 1.0 mgd oxidation ditch treatment system utilizing a fixed film contact aeration (packed bed reactor) system is proposed to be added to the existing 1.28 mgd WWTP in order to expand the plant's hydraulic design capacity from 1.28 mgd to 2.28 mgd. The average annual flow of the expanded plant will be 2.0 mgd. The WWTP will continue to discharge to Cacoosing Creek, a tributary of Tulpehocken Creek, which is a tributary of the Schuylkill River. The facility is located in the Township of Spring, Berks County, Pennsylvania.

7. Hilltown Township Water and Sewer Authority, D-1992-020 CP-3. An application for the renewal of a groundwater withdrawal project to continue the withdrawal of 16.0 mg/30 days to supply the applicant's public water supply system from existing Wells Nos. 2 and 5 and new Well No. 1A. New Well No. 1A was drilled as a replacement well for Well No. 1, which was abandoned due to a casing failure. The applicant requests that the withdrawal from New Well No. 1A be limited to 9.60 mg/30 days. The project is located in the Brunswick and Lockatong Formations in the Pleasant Spring Creek Watershed in Hilltown Township, Bucks County, Pennsylvania, within the Southeastern Pennsylvania Ground Water Protected Area.

8. Lyons Borough Municipal Authority, D-1994-080 CP-2. An application for approval to expand and upgrade the Lyons Borough Municipal Authority WWTP. The hydraulic design flow will increase from 0.2 mgd to 0.3 mgd, and modifications will include the construction of two equalization tanks, a package aeration unit, three gravity filters, an ultra-violet (UV) light disinfection system, a post-aeration tank, a screw press for sludge dewatering, chemical feed systems and a filtration building. The project also includes a request for an increase from 1,000 milligrams per liter (mg/l) to 2,000 mg/l in the Total Dissolved Solids (TDS) effluent limit for the upgraded WWTP. The increase in flow and TDS is anticipated as a result of proposed acceptance of an additional 0.10 mgd of industrial process water from East Penn Manufacturing Company, an industrial wastewater discharger to the WWTP. The WWTP will continue to discharge to Sacony Creek, a tributary of the Maiden Creek, which is a tributary of the Schuylkill River. The project is located in the Borough of Lyons Township, Berks County, Pennsylvania.

9. Lower Providence Township Municipal Authority D-1999-021 CP-2. An application for the renewal of a groundwater withdrawal project to supply up to 3.3 mg/30 days of water to the applicant's golf course from existing Wells Nos. 1 and 2 in the Stockton Formation. The total allocation of groundwater is based on actual metered data and is an increase from the existing allocation of 2.27 mg/30 days. The project is located in the Mine Run and Schuylkill River watersheds in Lower Providence Township, Montgomery County, PA in the Southeastern Pennsylvania Ground Water Protected Area.

10. Maidencreek Township Authority, D-2000-028 CP-2. An application for approval to increase the TDS effluent limit for the Maidencreek WWTP from 1,000 mg/l to 1,500 mg/l. The proposed increase in TDS is a result of additional industrial process water proposed to be discharged to the plant by James Hardie Building Products, an existing industrial wastewater discharger. The average annual flow of the existing WWTP will remain at 0.8 mgd. The plant is hydraulically designed for 1.0 mgd. The WWTP will continue to discharge to Willow Creek, a tributary of Maiden Creek, which is a tributary of the Schuylkill River. The project is located in Ontelaunee Township, Berks County, Pennsylvania.

11. East Vincent Municipal Authority, D-2005-007 CP-1. An application to rerate a 48,800 gallons per day (gpd) sewage treatment plant (STP) to process a maximum monthly flow of 52,800 gpd, while continuing to provide tertiary treatment. The project will continue to serve flows from the built-out residential development known as Bartons Meadows in East Vincent Township, Chester County, Pennsylvania. The additional 4,000 gpd is needed to handle wet weather related flows due to inflow and infiltration. Following ultraviolet light disinfection, STP effluent will continue to be discharged to subsurface seepage beds in the drainage area of French Creek. The project is located in the DRBC Southeastern Pennsylvania Ground Water Protected Area and the Schuylkill River Watershed, off of Sheeder Road just north of its intersection with Pughtown Road.

12. Upper Makefield Township, D-2007-025 CP-2. An application for approval of expansion of the Upper Makefield Township Gray Tract WWTP, which was previously approved but not constructed. The applicant seeks approval to expand the proposed plant from the previously approved 20,000 gallons per day (gpd) to 55,550 gpd in order to accommodate an additional service area consisting of the portions of the Melksy Farm and White Farm subdivisions located in Upper Makefield Township. The hydraulic design capacity of the proposed WWTP is to be 70,000 gpd. The WWTP is proposed to discharge to Houghs Creek rather than to the previously-approved location on an unnamed tributary of Houghs Creek. The project is to be located in the Houghs Creek Watershed in Upper Makefield Township, Bucks County, Pennsylvania, and is located within the drainage area of the section of the non-tidal Delaware River known as the Lower Delaware, which is classified as Special Protection Waters.

13. Artesian Water Company, Inc. D-2007-042 CP-1. An application for approval of a groundwater withdrawal project to supply up to 25.8 mg/30 days of water to the applicant's public water supply distribution system from new Wells Nos. PW-1 and PW-2 in the Weatherstone Crossing wellfield. The project is located in the Frederica Formation in the Murderkill River Watershed in Kent County, Delaware.

14. Arcelor Mittal Plate, LLC, D-2008-036-1. An application for approval of an existing surface water and spring water withdrawal of up to 105.8 mg/30 days. The Arcelor Mittal Plate industrial facility withdraws surface water from two intakes and one spring source (West Side Spring). Intake No. 1 is located on the West Branch Brandywine Creek and Intake No. 2 is located on Sucker Run, a tributary of the West Branch Brandywine Creek. The facility is located in the City of Coatesville in Chester County, Pennsylvania.

15. Naval Surface Warfare Center, Carderock Division, Ship Systems Engineering Station, D-2009-003 CP-1. An application for approval of an existing surface water withdrawal of 1,080 mg/30 days. The existing Naval Surface Warfare Center, Carderock Division, Ship Systems Engineering Station currently withdraws surface water from the Philadelphia Navy Reserve Basin, which is connected by a channel and tidally-linked to the Schuylkill River one-half mile upstream of the confluence of the Schuylkill River with the Delaware River. The surface water withdrawal is used for non-contact cooling water. The facility is located in the City of Philadelphia, Pennsylvania.

16. Naval Surface Warfare Center, Carderock Division, Ship Systems Engineering Station, D-2009-004 CP-1. An application to approve an existing non-contact cooling water (NCCW) discharge to the Navy Reserve Basin (Outfall 001) and an existing discharge of process water directly to the Delaware River within Water Quality Zone 4 (Outfall 005). The existing discharges have not been approved by the Commission. The discharge of NCCW from Outfall 001 will increase from 24.0 mgd (existing) to 36.0 mgd as a result of the proposed P-205 Electric Test Drive project and Outfall No. 005 will remain at 0.60 mgd. The Navy Reserve Basin is connected by a channel and tidally-linked to the Schuylkill River one-half mile upstream of the confluence of the Schuylkill River with the Delaware River. The facility is located in the Schuylkill River Watershed in the City of Philadelphia, Pennsylvania.

17. Village of Fleischmanns, D-2009-008 CP-1. An application for approval of a groundwater withdrawal project to supply up to 9.75 mg/30 days of water to the applicant's public water supply system from existing Wells Nos. 2 and 4, rehabilitated Well No. 3, new Well No. 5, and existing Springs Nos. 3, 4 & 5. The allocation is requested in order to meet existing and projected demands in the project service area. The project is located in the Lower Walter Formation in the Bush Kill Watershed in the Village of Fleischmanns, Delaware County, New York. The site is located within the drainage area of the section of the non-tidal Delaware River known as the Upper Delaware, which is designated as Special Protection Waters.

18. Elwood P. Carey, D-2009-028-1. An application for approval of an existing groundwater withdrawal project to supply a maximum of 10.8 mg/30 days of water for the applicant's irrigation of approximately 86 acres of corn, soybean, and wheat crops. The project well (Well No. 1) is located in the Cheswold Aquifer in the Leipsic River Watershed in Kent County, Delaware.

19. State of Delaware Parks and Recreation, D-2009-034 CP-1. An application to approve an existing surface and groundwater withdrawal of up to 14.0 million gallons per 30 days (mg/30 days) of water for the irrigation of the docket holder's golf course from one existing surface water intake (Intake No. 1) located on an irrigation pond and one existing groundwater production well (Well No. 1). The allocation limits the withdrawal to 7.0 mg/30 days, with a daily restriction of 403,000 gallons per day (gpd) for each source. The project well is located in the Cheswold Formation, and the surface water withdrawal is from a pond located on an unnamed tributary of the Leipsic River in Kent County, Delaware.

20. Deb-El Food Products, D-2009-036-1. An application for approval to construct a 0.05 mgd industrial wastewater treatment plant (IWTP) that will discharge to the Neversink River at River Mile 253.64—28.7 (Delaware River—Neversink River) in the drainage area of the section of the non-tidal Delaware River known as the Middle Delaware, which is classified as Special Protection Waters. The IWTP is located in the Town of Thompson, Sullivan County, New York.

21. Arcelor Mittal Plate, LLC—Conshohocken, D-2009-039-1. An application for approval of a groundwater and surface water withdrawal project to supply up to 12.96 mg/30 days of groundwater and 45 mg/30 days of surface water to the applicant's industrial process from the existing Q&T Well and existing surface water intake, respectively. The surface water allocation is based on projected peak demands and is less than the requested allocation of surface water. Surface water will be withdrawn from the Schuylkill River in the Schuylkill-Crow Creek Watershed. The well is located in the Elbrook Formation in the Schuylkill-Crow Creek Watershed in Plymouth Township, Montgomery County, PA, within the Southeastern Pennsylvania Ground Water Protected Area.

22. Village of Buckingham Springs, D-2009-040 CP-1. An application for approval of an existing 0.1 mgd discharge from the Village of Buckingham Springs (VBS) WWTP. The VBS WWTP will continue to discharge to Mill Creek at River Mile 115.63—23.39—4.95 (Delaware River—Neshaminy Creek—Mill Creek). The VBS WWTP is located in Buckingham Township, Bucks County, Pennsylvania.

23. Tobyhanna Army Depot, D-2009-041 CP-1. An application for approval to modify the treatment process of the existing 0.802 mgd Tobyhanna Army Depot WWTP. The discharge is located at River Mile 183.66—83.5—26.4—1.82 (Delaware River—Lehigh River—Tobyhanna Creek—UNT) within the drainage area of the section of the non-tidal Delaware River known as the Lower Delaware, which is classified as Special Protection Waters. The WWTP is located in Coolbaugh Township, Monroe County, Pennsylvania.

24. Cedar Glen Lakes Water Company, D-2009-046 CP. An application for approval of a groundwater withdrawal project to supply up to 7.8 mg/30 days of water to the applicant's public supply distribution system from existing Well No. 2. The project is located in the Kirkwood-Cohansey Formation in the Rancocas Creek Watershed in Manchester Township, Ocean County, New Jersey.

25. New Jersey American Water Company—New Egypt System, D-2009-050 CP-1. An application for approval of an existing groundwater withdrawal project to supply up to 5.0 mg/30 days of water to the applicant's public water supply system from existing Wells Nos. 1A and 2, which were not previously reviewed by the Commission. The project wells are located in the Englishtown Aquifer in the Crosswicks Creek Watershed in Plumsted Township, Ocean County, New Jersey.

26. Kinsley Group Family, LP—Kinsley Shopping Center, D-2010-005-1. An application for approval to construct and operate the 20,000 gpd Kinsley Shopping Center (KSC) WWTP. Effluent limits for the KSC WWTP will be based upon a 17,770 gpd discharge, the expected 2015 year discharge flow. The WWTP will be located in the Lower SPW drainage area and will discharge to ten (five primary and five reserve) on-site seepage beds in the Weir Creek Watershed near River Mile 183.66—40.88—6.30—6.51—7.40—2.40 (Delaware River—Lehigh River—Pohopoco Creek—Beltzville Reservoir—Pohopoco Creek—Weir Creek) in Chestnuthill Township, Monroe County, Pennsylvania.

In addition to the standard business meeting items, including adoption of the Minutes of the Commission's March 3, 2010 business meeting; announcements of upcoming meetings and events of interest; a report on hydrologic conditions; a report by the Executive Director; and a report by the Commission's General Counsel, the business meeting will include public hearings and consideration by the Commission of resolutions approving: (a) The Commission's FY 2010-2015 Water Resources Program; and (b) election of the Commission Chair, Vice-Chair and Second-Vice Chair for FY 2011. In addition, the Commissioners will consider adoption of the DRBC Fiscal Year 2011 operating and capital budgets, on which a hearing was conducted during the December 9, 2009 business meeting. An opportunity for public dialogue will be provided at the end of the meeting.

Draft dockets scheduled for public hearing on May 5, 2010 can be accessed through the Notice of Commission Meeting and Public Hearing on the Commission's Web site, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's Web site, drbc.net, closer to the meeting date for changes that may be made after the deadline for filing this notice.

Individuals in need of an accommodation as provided for in the Americans with Disabilities Act who wish to attend the informational meeting, conference session or hearings should contact the Commission Secretary directly at 609-883-9500 ext. 203 or through the Telecommunications Relay Services (TRS) at 711, to discuss how the Commission can accommodate your needs.

Dated: April 12, 2010.
Pamela M. Bush,
Commission Secretary.

[FR Doc. 2010-8726 Filed 4-15-10; 8:45 am]

BILLING CODE 6360-01-P